ENVIRONMENTAL PROTECTION AGENCY

[FRL-9217-8]

Science Advisory Board Staff Office; Request for Nominations of Experts for the Review of EPA's Draft Oil Spill Research Strategy

AGENCY: Environmental Protection Agency (EPA).

ACTION: Notice.

SUMMARY: The EPA Science Advisory Board (SAB) Staff Office requests public nominations for technical experts to form a SAB panel to peer review the Agency's Draft Oil Spill Research Strategy. EPA's Office of Research and Development will be developing the strategy to discuss EPA's proposed research and collaborative approaches for four activities: dispersants, alternative remediation technologies, coastal restoration, and human health effects identified during the Gulf of Mexico oil spill.

DATES: Nominations should be submitted by November 9, 2010 per instructions below.

FOR FURTHER INFORMATION CONTACT: Any member of the public wishing further information regarding this Notice and Request for Nominations may contact Mr. Thomas Carpenter, Designated Federal Officer (DFO), SAB Staff Office, by telephone/voice mail at (202) 564-4885, by fax at (202) 565-2098, or via e-mail at carpenter.thomas@epa.gov. General information concerning the EPA SAB can be found at the EPA SAB Web site at http//www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

After the BP Deepwater Horizon oil spill in the Gulf of Mexico, the EPA Science Advisory Board Staff Office prepared to meet EPA's emerging needs for advice relating to science and research linked to oil spills by announcing plans on May 19, 2010 to convene work groups of experts drawn from the U.S. EPA SAB to provide advice on scientific and technical issues related to the Gulf of Mexico oil spill (75 FR 28009). In a subsequent Federal Register Notice the SAB Staff Office requested public nominations of experts to serve on potential work groups or panels to advise the Agency on scientific and technical issues related to the Gulf of Mexico Oil Spill (75 FR 32769-32770, June 9, 2010). The request sought nominations of nationally and internationally recognized experts with demonstrated research or operational experience assessing the environmental impacts and associated mitigation of impacts due to oil spills, oil products, oil constituents, and dispersants in air and water (including wetlands) media. The Federal Register Notice sought individuals with expertise in one or more of the following disciplines: chemistry; fate, transport and exposure assessment; toxicology; public health; ecology; ecotoxicology; risk assessment; engineering; and economics.

Since publication of these Federal Register Notices, EPA's ORD has requested SAB advice on a Draft Oil Spill Research Strategy and changes to EPA's existing Oil Spill Research Program in light of the Deepwater Horizon oil spill in the Gulf of Mexico. This notice specifically requests public nominations for technical experts to form an SAB panel to peer review this Draft Oil Spill Research Strategy.

ORD was authorized to conduct oil spill research by the Oil Pollution Act of 1990 (OPA-90) following the Exxon Valdez oil spill. Since 1990, the objective of the research has been to provide environmental managers with the tools, models, and methods needed to mitigate the effects of oil spills in all ecosystems with emphasis on the inland environment. The Deepwater Horizon oil spill in the Gulf of Mexico has fundamentally different characteristics than previous near-shore oil spills creating new research needs for oil spill treatment methods (e.g., in-situ burning, bioremediation, and the use of dispersants), and potential human health and ecological impacts.

The Deep Water Horizon spill identified the need for additional research on alternative spill response technologies; environmental impacts of chemical dispersants under deep sea application conditions; the fate and toxicity of dispersants and dispersed oil; chronic health effects for spill response workers and the public; and shoreline and wetland impacts, restoration and recovery. Accordingly, ORD is developing a research strategy to address these needs, and has requested that the SAB review their draft strategy.

Availability of the review materials: The Draft Oil Spill Research Strategy will be available and posted on the Agency's Web site in the near future. General information on EPA's response to the BP Oil Spill in the Gulf of Mexico is available at http://www.epa.gov/bpspill/. For questions concerning the Draft Oil Spill Research Strategy, please contact Dr. Randy Wentsel, National Program Director for Land Research Program, Office of Research and Development, US EPA, 1200 Pennsylvania Avenue, NW., MC 8191R, Washington, DC 20460, phone (202) 564-3214 or at wentsel.randy@epa.gov.

Request for Nominations: The SAB Staff Office is seeking nominations of nationally and internationally recognized scientists and engineers with demonstrated expertise and research in one or more of the following areas: Chemistry, fate, transport and exposure assessment, public health, toxicology, ecotoxicology risk assessment, restoration ecology, environmental engineering, and environmental monitoring. We are particularly interested in scientists and engineers with direct experience in the oil spill remediation, management, and implementation of environmental protection and restoration programs that have included development of metrics and environmental indicators used to monitor, evaluate, and communicate progress in returning ecosystems and communities to conditions that support sustainability.

Process and Deadline for Submitting Nominations: Any interested person or organization may nominate qualified individuals in the areas of expertise described above for possible service on this expert Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested below.

EPA's SAB Staff Office requests contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Mr. Thomas Carpenter, DFO, as indicated above in this notice. Nominations should be submitted in time to arrive no later than November 9, 2010. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. The public will be requested to provide relevant information or other documentation on nominees that the SAB Staff Office should consider in evaluating candidates.

For the EPA SAB Staff Office, a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: October 20, 2010.
Anthony F. Maciorowski,
Deputy Director, EPA Science Advisory Board Staff Office.

[FR Doc. 2010-27073 Filed 10-25-10; 8:45 am]

BILLING CODE 6560-50-P